DEPARTMENT OF ENERGY

Federal Energy Regulatory Commission

[Project No. 13591-000]

McGinnis, Inc.; Notice of Preliminary Permit Application Accepted for Filing and Soliciting Comments, Motions To Intervene, and Competing Applications

July 6, 2010.

On September 29, 2009, McGinnis, Inc. filed an application for a preliminary permit, pursuant to section 4(f) of the Federal Power Act, proposing to study the feasibility of the Kentucky Hydrokinetic Project, to be located on the Tennessee River downstream of the Tennessee Valley Authority (TVA) and the Corps of Engineers' (COE) existing Kentucky Lock & Dam in Marshall and Livingston County, Kentucky. The sole purpose of a preliminary permit, if issued, is to grant the permit holder priority to file a license application during the permit term. A preliminary permit does not authorize the permit holder to perform any land disturbing activities or otherwise enter upon lands or waters owned by others without the owners' express permission.

The proposed Kentucky Hydrokinetic Project consists of: (1) 10 proposed 35 kilowatt axial flow turbine generating units having a total installed capacity of 350 kilowatts; (2) a 700-foot-long, 13.2 kilovolt transmission line; and (3) appurtenant facilities. The proposed Kentucky Hydrokinetic Project would have an average annual generation of 1.533 gigawatt-hours.

Applicant Contact: Bruce McGinnis, Sr., CEO, McGinnis, Inc., 502 Second Street Ext., South Point, OH 45680; phone: (740) 377-4391.

FERC Contact: Kim Carter, 202-502-6486.

Deadline for filing comments or motions to intervene: 60 days from the issuance of this notice. Comments and motions to intervene may be filed electronically via the internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13591) in the docket number field to access the document. For assistance, contact FERC Online Support.

Kimberly D. Bose,
Secretary.

[FR Doc. 2010-17096 Filed 7-13-10; 8:45 am]

BILLING CODE 6717-01-P